DEPARTMENT OF HOMELAND SECURITY

Federal Emergency Management Agency

[Docket ID FEMA-2019-0002; Internal Agency Docket No. FEMA-B-1908]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 3, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1908, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Teton County, Idaho and Incorporated Areas
Project: 11-10-0411S Preliminary Date: July 19, 2018
City of Driggs | Driggs City Hall, 60 South Main Street, Driggs, ID 83422.
City of Tetonia | City Hall, 3192 Perry Avenue, Tetonia, ID 83452.
City of Victor | City Hall, 32 Elm Street, Victor, ID 83455.
Unincorporated Areas of Teton County | Teton County Law Enforcement Center, 230 North Main Street, Driggs, ID 83422.
Randolph County, Illinois and Incorporated Areas
Project: 12-05-8956S Preliminary Date: June 22, 2018
Unincorporated Areas of Randolph County | Randolph County Courthouse, 1 Taylor Street, Chester, IL 62233.
Village of Ellis Grove | City Hall, 101 Main Street, Ellis Grove, IL 62241.
Village of Evansville | Evansville Village Hall, 403 Spring Street, Evansville, IL 62242.
Village of Prairie du Rocher | Prairie du Rocher Village Hall, 209 Henry Street, Prairie du Rocher, IL 62277.
Wright County, Minnesota and Incorporated Areas
Project: 08-05-4043S Preliminary Date: July 31, 2018
City of Delano | City Hall, 234 Second Street North, Delano, MN 53328.
Unincorporated Areas of Wright County | Wright County Government Center, 10 Second Street Northwest, Buffalo, MN 53313.
Seward County, Nebraska and Incorporated Areas
Project: 15-07-2318S Preliminary Date: August 1, 2018
City of Milford | City Hall, 505 1st Street, Milford, NE, 68405.
City of Seward | City Hall, 537 Main Street, Seward, NE 68434.
Unincorporated Areas of Seward County | Seward County Courthouse, 529 Seward Street, Seward, NE 68434.
Village of Beaver Crossing | Village Hall, 800 Dimery Street, Beaver Crossing, NE 68313.
Village of Bee | Village Office, 220 Elm Street, Bee, NE 68314.
Village of Cordova | Village Records Office, 310 Hector Street, Cordova, NE 68330.
Village of Garland | Garland Fire Department, 170 4th Street, Garland, NE 68360.
Village of Goehner | Village Office, 1140 May Street, Goehner, NE 68364.
Village of Pleasant Dale | Community Hall, 110 Ash Street, Pleasant Dale, NE 68423.
Village of Staplehurst | Community Hall, 155 South 3rd Street, Staplehurst, NE 68439.
Village of Utica | Village Office, 466 1st Street, Utica, NE 68456.
Miami County, Ohio and Incorporated Areas
Project: 14-05-9582S Preliminary Date: October 29, 2018
City of Piqua | City Hall, 201 West Water Street, Piqua, OH 45356.
Unincorporated Areas of Miami County | Miami County Safety Building, 201 West Main Street, Troy, OH 45373.

[FR Doc. 2019-03866 Filed 3-4-19; 8:45 am]

BILLING CODE 9110-12-P